DEPARTMENT OF HEALTH AND HUMAN SERVICES

National Institutes of Health

Submission for OMB Review; Comment Request; Survey of NHLBI Constituents' Health Information Needs and Preferred Formats

Summary: Under the provisions of Section 3507(a)(1)(D) of the Paperwork Reduction Act of 1995, the National Heart, Lung and Blood Institute (NHLBI), the National Institutes of Health (NIH) has submitted to the Office of Management and Budget (OMB) a request for review and approval of the information collection listed below. This proposed information collection was previously published in the Federal Register on March 19, 2009, pages 11736-11737 and allowed 60 days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection: Title: Survey of NHLBI Constituents' Health Information Needs and Preferred Formats. Type of Information Collection Request: NEW. Need and Use of Information Collection: The purpose of this survey is to obtain information from NHLBI constituents (health professionals, patients and their families, and the general public) for the purpose of evaluating their health information and education needs and format preferences. The Consumer Services Team (CST) will use the data collected in this survey to create a 3-year Strategic Plan. The findings from the survey, described in the Strategic Plan, will be used to develop new health information materials for NHLBI constituents and to revise materials currently in the Institute's portfolio. Frequency of Response: Once every 3 years. Affected Public: Individuals. Type of Respondents: Individuals who have been consumers of NHLBI information within the past 3 years. The annual reporting burden is as follows: Estimated Number of Respondents: 2,450; Estimated Number of Responses per Respondent: 1; Average Burden Hours per Response: 0.2; and Estimated Total Annual Burden Hours Requested: 162. The annualized cost to respondents is estimated at: $3,518.62. There are no Capital Costs, Operating Costs and/or Maintenance Costs to report.

Type of respondents | Estimated number of respondents | Estimated number of responses per respondent | Average burden hours per response | Estimated total annual burden hours requested
General Public | 1,075 | 0.33 | 0.2 | 71
Private Companies | 332 | 0.33 | 0.2 | 22
Public Sector Groups | 332 | 0.33 | 0.2 | 22
Health Professionals | 711 | 0.33 | 0.2 | 47
Totals | 2,450 |  |  | 162

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: Desk Officer for NIH. To request more information on the proposed project or to obtain a copy of the data collection plans and instruments, contact: Dr. Ann M. Taubenheim, Principal Investigator, National Heart, Lung, and Blood Institute, Office of Communications and Legislative Activities, NIH, 31 Center Drive, Building 31, Room 4A10, Bethesda, MD 21045, or call non-toll-free number 301-496-4236 or e-mail your request, including your address, to taubenha@nhlbi.nih.gov.

Comments Due Date: Comments regarding this information collection are best assured of having their full effect if received within 30 days of the date of this publication.

Dated: May 22, 2009.
Ann M. Taubenheim,
Principal Investigator, NHLBI, National Institutes of Health.

[FR Doc. E9-12604 Filed 5-29-09; 8:45 am]

BILLING CODE 4140-10-P